INTERNATIONAL TRADE COMMISSION

[Investigation No. 337-TA-942]

Certain Wireless Devices, Including Mobile Phones and Tablets III; Commission Determination To Affirm an Initial Determination Terminating the Investigation Based on a Settlement Agreement

AGENCY: U.S. International Trade Commission.

ACTION: Notice.

SUMMARY: Notice is hereby given that the U.S. International Trade Commission has determined to affirm the presiding administrative law judge's initial determination (“ID”) (Order No. 9) terminating the above-captioned investigation based on a settlement agreement.

FOR FURTHER INFORMATION CONTACT: Cathy Chen, Esq., Office of the General Counsel, U.S. International Trade Commission, 500 E Street SW., Washington, DC 20436, telephone (202) 205-2392. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on December 30, 2014, based on a complaint filed by Pragmatus Mobile, LLC of Alexandria, Virginia (“Pragmatus”). 79 FR 78478 (Dec. 30, 2014). The complaint alleged violations of Section 337 of the Tariff Act of 1930, as amended, 19 U.S.C. 1337, in the importation into the United States, the sale for importation, and the sale within the United States after importation of certain wireless devices, including mobile phones and tablets, by reason of infringement of certain claims of U.S. Patent No. 8,466,795. The notice of investigation named ASUSTek Computer, Inc. of Taipei, Taiwan; ASUS Computer International, Inc. of Fremont, California; and ASUS Technology Pte. Ltd. of Singapore (collectively “ASUS”) as respondents. The Office of Unfair Import Investigations is not a party to this investigation.

On May 13, 2015, Pragmatus and ASUS jointly filed a motion to terminate the investigation based on a settlement agreement. Pragmatus and ASUS filed public and confidential versions of the motion to terminate and the settlement agreement.

On May 14, 2015, the ALJ issued the subject ID granting the motion to terminate. The ID stated that the settlement agreement fully resolves all claims that Pragmatus has asserted against ASUS in this investigation. The ALJ found that termination of this investigation is in the public interest.

On June 15, 2015, the Commission determined to review the ID because the public version of the settlement agreement did not comply with Commission Rules 210.21(b)(1) and 201.6. The Commission requested the parties to file a revised public version of their settlement agreement.

On June 29, 2015, the parties submitted a revised public version of their settlement agreement that complies with the Commission rules. Accordingly, the Commission has determined to terminate the investigation in its entirety.

The authority for the Commission's determination is contained in section 337 of the Tariff Act of 1930, as amended (19 U.S.C. 1337), and in Part 210 of the Commission's Rules of Practice and Procedure (19 CFR part 210).

By order of the Commission.
Issued: July 13, 2015.
Lisa R. Barton,
Secretary to the Commission.

[FR Doc. 2015-17539 Filed 7-16-15; 8:45 am]

BILLING CODE 7020-02-P